DEPARTMENT OF COMMERCE

National Oceanic and Atmospheric Administration

50 CFR Part 665

[Docket No. 130103006-3477-02]

RIN 0648-BC89

Fisheries in the Western Pacific; 5-Year Extension of Moratorium on Harvest of Gold Corals

AGENCY: National Marine Fisheries Service (NMFS), National Oceanic and Atmospheric Administration (NOAA), Commerce.

ACTION: Final rule.

SUMMARY: This final rule extends the region-wide moratorium on the harvest of gold corals in the U.S. Pacific Islands through June 30, 2018. NMFS intends this final rule to prevent overfishing and to stimulate research on gold corals.

DATES: This rule is effective June 28, 2013.

ADDRESSES: Background information on Pacific Island precious coral fisheries is found in the western Pacific fishery ecosystem plans, available from the Western Pacific Fishery Management Council (Council), 1164 Bishop St., Suite 1400, Honolulu, HI 96813, tel 808-522-8220, fax 808-522-8226, or www.wpcouncil.org.

FOR FURTHER INFORMATION CONTACT: Lewis Van Fossen, NMFS PIR Sustainable Fisheries, 808-541-1378.

SUPPLEMENTARY INFORMATION: Precious corals (also called deep-sea corals), including gold corals, are used in high-quality jewelry. NMFS and the Council manage precious corals under fishery ecosystem plans for American Samoa, Hawaii, the Mariana Islands (Guam and the Northern Mariana Islands), and the U.S. Pacific Remote Island Areas. On September 12, 2008, NMFS established a 5-year moratorium on the harvest of gold corals in U.S. Pacific Islands (73 FR 47098). The moratorium was based on information that gold corals grew much more slowly and lived longer than previously thought, suggesting that these species were vulnerable to overharvest. NMFS and the Council intended the harvest moratorium to encourage research into gold coral biology and prevent overfishing.

Subsequent research found that gold corals in the U.S. Pacific Islands grow about 0.22 cm annually and the average colony age is about 950 years. These findings confirmed previous assumptions about gold corals' vulnerability to overharvesting. Additionally, researchers found that gold corals may also rely on the presence of bamboo coral. Gold coral larvae may require bamboo coral colonies as a growth substrate, attaching themselves to the host colony and eventually overgrowing it to form a new gold coral colony. This final rule is necessary to encourage more research into gold coral biology and to develop sustainable management measures.

This final rule extends the moratorium on harvesting gold corals in the U.S. Pacific Islands through June 30, 2018. Additional information on this final rule may be found in the preamble to the proposed rule (78 FR 18302) and is not repeated here.

Comments and Responses

On March 26, 2013, NMFS published a proposed rule and request for public comments (78 FR 18302); the comment period ended April 25, 2013. NMFS received one comment that generally supported the proposed rule, and no comments to the contrary.

Changes From the Proposed Rule

This final rule contains no changes from the proposed rule.

Classification

The Regional Administrator, Pacific Islands Region, NMFS, has determined that this final rule is necessary for the conservation and management of Pacific Island gold coral fisheries, and that it is consistent with the Magnuson-Stevens Fishery Conservation and Management Act and other applicable laws.

This final rule has been determined to be not significant for purposes of Executive Order 12866.

The Chief Council for Regulation of the Department of Commerce certified to the Chief Council for Advocacy of the Small Business Administration during the proposed rule stage that this action would not have a significant economic impact on a substantial number of small entities. The factual basis for the certification was published in the proposed rule and is not repeated here. No comments were received regarding this certification. As a result, a regulatory flexibility analysis was not required and none was prepared.

List of Subjects in 50 CFR Part 665

Administrative practice and procedure, American Samoa, Fisheries, Fishing, Guam, Hawaii, Northern Mariana Islands.

Dated: May 23, 2013.
Alan D. Risenhoover,
Director, Office of Sustainable Fisheries, performing the functions and duties of the Deputy Assistant Administrator for Regulatory Programs, National Marine Fisheries Service.

For the reasons set out in the preamble, NMFS amends 50 CFR part 665 as follows:

PART 665—FISHERIES IN THE WESTERN PACIFIC

1. The authority citation for part 665 continues to read as follows:

Authority: 16 U.S.C. 1801 et seq.

2. Revise § 665.169 to read as follows:

§ 665.169 Gold coral harvest moratorium.

Fishing for, taking, or retaining any gold coral in any precious coral permit area is prohibited through June 30, 2018.

3. Revise § 665.270 to read as follows:

§ 665.270 Gold coral harvest moratorium.

Fishing for, taking, or retaining any gold coral in any precious coral permit area is prohibited through June 30, 2018.

4. Revise § 665.469 to read as follows:

§ 665.469 Gold coral harvest moratorium.

Fishing for, taking, or retaining any gold coral in any precious coral permit area is prohibited through June 30, 2018.

5. Revise § 665.669 to read as follows:

§ 665.669 Gold coral harvest moratorium.

Fishing for, taking, or retaining any gold coral in any precious coral permit area is prohibited through June 30, 2018.

[FR Doc. 2013-12743 Filed 5-28-13; 8:45 am]

BILLING CODE 3510-22-P